DEPARTMENT OF TRANSPORTATION

Research and Special Programs Administration

[Docket No. RSPA-01-9832]

RIN 2137-AD59

Pipeline Safety: Hazardous Liquid Pipeline Operator Annual Report Form

AGENCY: Research and Special Programs Administration (RSPA), Department of Transportation.

ACTION: Notice and request for comments.

SUMMARY: In accordance with the Paperwork Reduction Act of 1995, the RSPA Office of Pipeline Safety (OPS) published a Notice of Proposed Rulemaking (NPRM) on July 26, 2002, announcing RSPA's/OPS's intention to collect pipeline characteristics information via a hazardous liquid pipeline operator annual report form. RSPA/OPS received comments on the proposed form and changed the form accordingly. RSPA/OPS discussed the changes with the Technical Hazardous Liquids Pipeline Safety Standards Committee (THLPSSC) on March 25, 2003. RSPA/OPS has posted the proposed form in the docket so that the THLPSSC can review it.

RSPA/OPS will hold a public meeting (see docket RSPA-97-2426) on May 28, 2003, to discuss potential improvements to the current standard for data submission to the National Pipeline Mapping System. The meeting will include a discussion about whether, at a future date, some information sought by the proposed hazardous liquid annual report form may alternatively be obtained through the National Pipeline Mapping System.

ADDRESSES: You may submit written comments by mail or delivery to the Dockets Facility, U.S. Department of Transportation, Room PL-401, 400 Seventh Street, SW., Washington, DC 20590-0001. The Dockets facility is open from 10 a.m. to 5 p.m., Monday through Friday, except Federal holidays. Comments should identify the docket number of this notice, RSPA-01-9832. You should submit the original and one copy. If you wish to receive confirmation of receipt of your comments, you must include a stamped, self-addressed postcard.

You may also submit or review comments electronically by accessing the Docket Management System's home page at http://dms.dot.gov. Click on “Help & Information” for instructions on how to file a document electronically. All written comments should identify the docket and notice numbers stated in the heading of this notice.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

FOR FURTHER INFORMATION CONTACT: Roger Little, by telephone, at 202-366-4569; by fax at 202-366-4566; by mail at U.S. Department of Transportation, RSPA, 400 Seventh Street, SW., Room 7128, Washington, DC, 20590; or by e-mail at roger.little@rspa.dot.gov.

Issued in Washington, DC on May 20, 2003.
Richard D. Huriaux,
Manager, Regulations, Office of Pipeline Safety.

[FR Doc. 03-13065 Filed 5-23-03; 8:45 am]

BILLING CODE 4910-60-P